SMALL BUSINESS ADMINISTRATION

[Declaration of Disaster #3428]

State of Texas; Amendment #4

In accordance with a notice received from the Federal Emergency Management Agency, dated July 17, 2002, the above numbered declaration is hereby amended to include Callahan, Live Oak, San Patricio and Zavala Counties in the State of Texas as disaster areas due to damages caused by severe storms and flooding occurring on June 29, 2002 and continuing.

All contiguous counties have been previously declared.

All other information remains the same, i.e., the deadline for filing applications for physical damage is September 2, 2002, and for economic injury the deadline is April 4, 2003.

(Catalog of Federal Domestic Assistance Program Nos. 59002 and 59008)
Dated: July 19, 2002.
S. George Camp,
Acting Associate Administrator for Disaster Assistance.

[FR Doc. 02-18979 Filed 7-25-02; 8:45 am]

BILLING CODE 8025-01-P